DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Quantitative Assessment of Spatially-Explicit Social Values Relative to Wind Energy Areas: Outer Continental Shelf Offshore North Carolina.

OMB Control Number: 0648-xxxx.

Form Number(s): None.

Type of Request: Regular (request for a new information collection).

Number of Respondents: 3,225 (300 for a pretest; 2,925 for the final survey).

Average Hours per Response: 20 minutes.

Burden Hours: 1,075.

Needs and Uses: This request is for a new information collection.

Pursuant to the Outer Continental Shelf Land Act, the National Environmental Policy Act and the Coastal Zone Management Act, this request is for a new data collection to benefit the National Oceanic and Atmospheric Administration (NOAA), Bureau of Ocean Energy Management (BOEM), and policy-makers on the state and local level in North Carolina. BOEM has identified three wind energy areas for potential development on the outer continental shelf of North Carolina. The National Ocean Service (NOS) proposes to collect data on the knowledge, beliefs, social values, and attitudes of North Carolina and South Carolina residents relative to marine and coastal landscapes, alternative energy production options, and offshore wind energy development. Respondents will be sampled from households in eight to ten coastal counties.

The required information will be used to objectively assess the level of support and/or opposition for offshore wind energy development in the region, as well as identify the relevant issues and concerns most salient to residents. The information will be used by BOEM, NOAA, and others to improve agency understanding about the beliefs, social values, attitudes, and concerns of people potentially affected by offshore wind energy development. Such information will be used to ascertain the possible sociocultural outcomes of offshore wind energy development in the region, such as an enhancement or reduction in enjoyment of the coastal landscape/seascape. Additionally, information collected will be used to improve communication efforts targeted to residents, enabling agencies to more effectively and efficiently direct outreach and community inclusion activities.

Affected Public: Individuals or households.

Frequency: One time.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: May 26, 2016.
Sarah Brabson,
NOAA PRA Clearance Officer.

[FR Doc. 2016-12912 Filed 6-1-16; 8:45 am]

BILLING CODE 3510-JE-P